MILLENNIUM CHALLENGE CORPORATION

[MCC FR 06-04]

Public Information Session Regarding Benin Compact Signing

AGENCY: Millennium Challenge Corporation.

ACTION: Notice.

SUMMARY: The Millennium Challenge Corporation (“MCC”) will hold a public information meeting on Thursday, February 23, 2006 at the Institute for International Economics in Washington, DC. The meeting will inform interested parties about the MCC Compact with Benin, which will be signed on February 22, 2006. The event is being co-sponsored by MCC and the Center for Global Development. MCC's Chief Executive Officer, Ambassador John J. Danilovich, will be presenting remarks and members of the Benin Transaction Team, from both MCC and Benin, will participate in a panel discussion.

DATES: Thursday, February 23, 2006; from 2-3:30 p.m.

ADDRESSES: Institute for International Economics, 1750 Massachusetts Avenue, NW., Washington, DC 20036-1903.

FOR FURTHER INFORMATION CONTACT: Information on the meeting may be obtained from Erik Rasmussen at (202) 521-3600.

SUPPLEMENTARY INFORMATION: Due to security requirements at the meeting location, all individuals wishing to attend the meeting are encouraged to arrive at least 15 minutes before the meeting begins and must supply photo identification. Those wishing to attend should e-mail Erik Rasmussen at events@mcc.gov with the following information: Name, Telephone Number, E-mail address; Affiliation/Company Name.

Dated: February 16, 2006.
Frances C. McNaught,
Vice President, Domestic Relations.

[FR Doc. 06-1629 Filed 2-21-06; 8:45 am]

BILLING CODE 9210-01-P